DEPARTMENT OF HOMELAND SECURITY

Coast Guard

33 CFR Part 117

[Docket No. USCG-2018-0051]

Drawbridge Operation Regulation; Sloop Channel, Hempstead, NY

AGENCY: Coast Guard, DHS.

ACTION: Notice of deviation from drawbridge regulation.

SUMMARY: The Coast Guard has issued a temporary deviation from the operating schedule that governs the Wantagh State Parkway Bridge across Sloop Channel, mile 15.4, at Hempstead, New York. This deviation is necessary in order to facilitate an annual fireworks display and allows the bridge to remain in the closed position for three hours.

DATES: This deviation is effective from 9 p.m. to 11:59 p.m. on July 4, 2018.

ADDRESSES: The docket for this deviation, USCG-2018-0051, is available at http://www.regulations.gov. Type the docket number in the “SEARCH” box and click “SEARCH”. Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: The New York State Office of Parks, Recreation, and Historic Preservation requested and the bridge owner, the New York State Department of Transportation, concurred with this temporary deviation from the normal operating schedule to facilitate a public fireworks display.

The Wantagh State Parkway Bridge, across Sloop Channel, mile 15.4, has a vertical clearance of 16 feet at mean high water and 19.5 feet at mean low water in the closed position. The existing drawbridge operating regulation is listed at 33 CFR 117.5.

The temporary deviation will allow the Wantagh Parkway Bridge to remain closed from 9 p.m. to 11:59 p.m. on July 4, 2018. Sloop Channel is transited by seasonal recreational vessels and commercial fishing vessels. Coordination with Coast Guard Sector Long Island Sound has indicated no mariner objections to the proposed short-term closure of the draw.

Vessels that can pass under the bridge without an opening may do so at all times. The bridge will be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: February 1, 2018.
Christopher J. Bisignano,
Supervisory Bridge Management Specialist, First Coast Guard District.

[FR Doc. 2018-03175 Filed 2-14-18; 8:45 am]

BILLING CODE 9110-04-P